DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

An Assessment of the Status of PASRR and Mental Health Services for Persons in Nursing Facilities—New—SAMHSA's Center for Mental Health Services, in conjunction with the Centers for Medicare and Medicaid Services (CMS), is sponsoring an assessment of the effectiveness of the Pre-Admission Screening and Resident Review (PASRR) program, which is a required component of every State's Medicaid plan. Data will be collected from State Medicaid and Mental Health Authority administrators in 50 states and the District of Columbia as well as administrators and staff in 24 nursing facilities in 4 states (6 facilities per state). In addition, data will be collected from 100 residents in nursing facilities in 2 of the states. Data collection for this study will be conducted over an 8-month period. SAMHSA will use study findings to develop training opportunities for State agencies responsible for overseeing the placement and treatment of people with mental health needs in nursing facilities and by CMS to address specific recommendations of a recent report from the Office of the Inspector General.

Variables of interest for Medicaid Agencies, Mental Health Authorities, and nursing facilities include the following: availability of mental health services; change in condition procedures; alternative placement procedures; and experience with PASRR. Variables of interest for the nursing facility residents include: mental health symptomatology, functioning, and mental health service access. Data will be entered and managed electronically. The total respondent burden is estimated below.

Respondent | Number of respondents | Responses/respondent | Burden/ response (hrs.) | Total burden (hrs.)
Medicaid Administrator | 51 | 1 | 1 | 51
Mental Health Authority Administrator | 51 | 1 | 1 | 51
Nursing Facility Resident | 100 | 1 | .5 | 50
Nursing Facility Administrator | 24 | 1 | 1 | 24
Nursing Facility Staff | 48 | 1 | 1 | 48
Total | 274 |  |  | 224

Written comments and recommendations concerning the proposed information collection should be sent within 30 days of this notice to: Lauren Wittenberg, Human Resources and Housing Branch, Office of Management and Budget, New Executive Office Building, Room 10235, Washington, DC 20503.

Dated: April 15, 2002.
Richard Kopanda,
Executive Officer, Substance Abuse and Mental Health Services Administration.

[FR Doc. 02-9726 Filed 4-19-02; 8:45 am]

BILLING CODE 4162-20-P